DEPARTMENT OF DEFENSE

Department of the Army, Corps of Engineers

Availability of the Draft Environmental Impact Statement for the South River, Raritan River Basin, Hurricane and Storm Damage Reduction and Ecosystem Restoration Study

AGENCY: Department of the Army, U.S. Army Corps of Engineers, DoD.

ACTION: Notice of availability.

SUMMARY: The New York District of the U.S. Army Corps of Engineers (Corps) has prepared a Draft Environmental Impact Statement (DEIS) for the South River, Raritan River Basin Raritan, Hurricane and Storm Damage Reduction and Ecosystem Restoration Study. The purpose of the study is to identify a plan that would protect the South River, Sayerville and Woodbridge communities from damages caused by hurricanes and storms, and restore degraded habitats in the South River. The DEIS was prepared to evaluate those alternatives identified in the Feasibility Report.

DATES: The DEIS will be available for public review when this announcement is published. The review period of the document will be until July 22, 2002. To request a copy of the DEIS please call (212) 264-4663.

FOR FURTHER INFORMATION CONTACT: For further information regarding the DEIS, please contact Mark Burlas, Project Wildlife Biologist, telephone (212) 264-4663, Planning Division, ATTN: CENAN-PL-EA, Corps of Engineers, New York District, 26 Federal Plaza, New York, New York, 10278-0090.

SUPPLEMENTARY INFORMATION: 1. The South River, Raritan River Basin, Hurricane and Storm Damage Reduction and Ecosystem Restoration Feasibility Study was authorized by resolution of the U.S. House of Representatives Committee on Public Works and Transportation and adopted May 13, 1993. The resolution states that: Resolved by the Committee on Public Works and Transportation of the United States House of Representatives, that, the Secretary of the Army, acting through the Chief of Engineers, is requested to review the report of the Chief of Engineers, titled Basinwide Water Resources Development Report on the Raritan River Basin, New Jersey, published as House Document 53, Seventy-first Congress, Second Session, and other pertinent reports, to determine whether modifications of the recommendations contained therein are advisable at the present time in the interest of flood control and related purposes on the South River, New Jersey.

2. The South River, Raritan River Basin, Hurricane and Storm Damage Reduction and Ecosystem Restoration Feasibility Study has been conducted by the Corps with the non-Federal project partner, the New Jersey Department of Environmental Protection (NJDEP). The study area initially included the entire South River basin. The South River is the first major tributary of the Raritan River, located approximately 8.3 miles upstream of the Raritan River's mouth at Raritan Bay. The South River is formed by the confluence of the Matchaponix and Manalapan Brooks, just above Duhernal Lake, and flows northward from Duhernal Lake a distance of approximately 7 miles, at which point it splits into two branches, the Old South River and the Washington Canal. Both branches flow northward into the Raritan River. The South River is tidally controlled from its mouth upstream to Duhernal Lake Dam; fluvial conditions prevail above the dam. Based on coordination with NJDEP, County and local governments, it was determined that there are no widespread flooding problems in the South River watershed upstream of the Duhernal Lake dam. Consequently, the study area was modified, focusing on river reaches below the dam, specifically flood-prone areas within the Boroughs of South River and Sayreville, the Township of Old Bridge, and the Historic Village of Old Bridge (located within the Township of East Brunswick). The downstream river reaches encompass virtually all the flood-prone structures in the watershed and the areas of greatest ecological degradation (and greatest potential for ecosystem restoration).

3. Periodic hurricanes and storms have caused severe flooding along the South River. Flood damages downstream of Duhernal Lake are primarily due to storm surges with additional damages associated with basin runoff. The communities repeatedly affected by storm surges are the Boroughs of South River and Sayreville, the Township of Old Bridge, and the Historic Village of Old Bridge in East Brunswick Township. There are approximately 1,247 structures (1,082 residential; 165 commercial) in the 100-year floodplains of these communities and 1,597 structures in the 500-year floodplains (1,399 residential; 198 commercial). Storm surges create the greatest damages in the study area occurring during hurricanes and northeasters that generate sustained onshore winds through multiple tidal cycles. For example, the northeaster of March 1993 (a 25-year event) resulted in approximately $17 million damage (2001 dollars) and closed the highway bridge connecting the Boroughs of South River and Sayreville.

4. The area under consideration for ecosystem restoration encompasses 1,278 acres along the Old South River and the Washington Canal and includes the 380-acre Clancy Island bounded by these waterways and by the Raritan River. Wetland plant communities account for 786 acres (61 percent) of the study area land cover. Uplands account for the remaining 492 acres, of which 234 acres are occupied by residential, commercial, and industrial development. These wetlands and uplands are ecologically degraded. Approximately 527 acres (41 percent of the study area) are dominated by monotypic stands of common reed (Phragmites australis). Other wetland communities are scattered around the site in a patchwork of fragmented parcels. The uplands are dominated by low quality scrub-shrub land cover. The current degraded ecological conditions appear to be the result of: (1) Construction and maintenance dredging associated with the Federal navigation channels in the South River, Washington Canal, and Raritan River and (2) clay excavation and industrial activity associated with the defunct Sayreville brick industry.

5. Plan formulation for hurricane and storm damage reduction along the South River considered a full range of structural and nonstructural measures. Alternative plans that survived the initial screening of alternatives included: (1) A storm surge barrier at the confluences of the South River and Washington Canal with the raritan River, (2) multiple levee and floodwall configurations, and (3) buy-out of flood-prone properties. Further investigation determined that the storm surge barrier alternative at the confluence of the Washington Canal and the Raritan River was not economically feasible and that there would be significant adverse environmental effects on study area wetlands. It was also determined that acquisition of structures in the flood plains was not economically feasible. In contrast, preliminary analysis indicated that the levee and floodwall protection of flood-prone properties in the study area was found to be economically and technically feasible.

6. More detailed analysis indicated that levees and floodwalls along the eastern and western banks of the lower South River would be economically justified and would have minimal effects on study area wetlands. It was also determined that structural protection of upstream reaches would not be economically justified. A storm surge barrier (different location than previously described), located just downstream (north) of the Veterans Memorial Bridge, was subsequently evaluated in combination with levees/floodwalls in the lower reaches. The barrier was found to be an economically feasible means to protect upstream reaches. In addition, it would: (1) Minimize environmental impacts on wetlands, (2) avoid potential Hazardous Toxic Radioactive Waste (HTRW) sites upstream, and (3) preclude the need for nonstructural protection in upstream communities by providing comprehensive storm surge protection.

7. Economic analysis of the hurricane and storm reduction plans indicated that the levee/floodwall system with upstream storm surge barrier would result in the greatest net benefits. Subsequent optimization of this plan determined that a 500-year level of protection would provided the greatest net benefits. Consequently, the levee/floodwall system with upstream storm surge barriers providing a 500-year level of protection was designated as the National Economic Development (NED) plan and was selected as the recommended plan. Using a combination of levees, floodwalls, and a storm surge barriers, structural protection will extend to an elevation of +21.5 feet NGVD. The levees will extend 10,712 feet in length, and the floodwalls will extend 1,655 feet in length. The storm surge barrier will span the South River for a length of 320 feet and will have a clear opening of 80 feet. It is anticipated that the first costs of the selected hurricane and storm reduction plan will be approximately $62.5 million with average annual costs estimated at $4.3 million. With an average annual benefits estimated at $9.1 million, the average annual net benefits associated with the selected hurricane and storm reduction plan will be approximately $4.8 million. The selected hurrican and storm reduction plan is expected to have a benefit-cost ratio of 2.1 to one.

Even though the selected hurricane and storm damage reduction plan was specifically designed to avoid and minimize environmental impacts, there were some unavoidable impacts to the natural resources in the South River. Based on a Habitat Evaluation Procedures (HEP) study and an Evaluation of Planned Wetlands (EPW) assessment, the selected NED plan will result in a loss of 1.07 Average Annual Habitat Units (AAHUs) and 20.74 Functional Capacity Units (FCUs). Consequently, to offset these impacts it was determined that the mitigation goal will replace at least 100% of the combined loss of AAHUs summed across evaluation species and FCUs summed across wetland functions, and at least 50% (agreed upon by HEP Team) of the loss of AAHUs per evaluation species and FCSs lost per function, as a result of implementation of the selected hurricane and storm damage reduction measures.

8. To achieve the mitigation goal, a screening analysis was conducted to evaluate the feasibility of improving the available habitat on the proposed levee (e.g., plant shrubs to improve songbird habitat); improving the existing habitats (e.g., increase the density/cover of the vegetation by planting more shrubs and/or herbaceous species); and, converting one habitat/cover type to another more valuable habitat (e.g., covert areas of Phragmites to salt marsh or wetland scrub-shrub).

9. Based on an analysis of the acreages, costs, benefits, and incremental cost/output for each of these plans it was determined that Mitigation Alternative 2 had ecological outputs that were worth its associated costs. The selected mitigation plan will fulfill the mitigation goal and will involve the conversion of 11.1 acres of degraded wetland Phragmites and disturbed habitat to a combination of wetland scrub-shrub (7.8 acres) and salt marsh (3.3 acres). This plan is estimated to cost $2,865,300 and is included in the hurricane and storm damage reduction cost provided earlier.

10. Plan formulation for ecosystem restoration considered a wide variety of restoration measures to address opportunities associated with ecosystem restoration along the South River. Restoration goals and objectives were specified early in the plan formulation process. Restoring biodiversity and ecological functioning were established as the restoration goals; the restoration objectives included: restoring habitat for threatened and endangered species, increasing site biodiversity, increasing tidal flushing, reducing Phragmites, improving water quality, and stabilizing and protecting desirable wetland habitat. After a preliminary restoration screening process that the assessed ecological benefits and engineering constraints of eleven different alternatives, four priority habitats were chosen for ecological restoration of the study area: low emergent marsh, intertidal mudflat, wetland forest scrub-shrub, and open water (i.e., tidal creeks and tidal ponds). Using different proportions of each habitat, more than 250 potential mathematical combinations of these habitats were evaluated.

11. These combinations were then applied to four potential restoration areas delineated in the study area using four different scales of restoration for degraded acreage in each area: 25 percent, 50 percent, 75 percent, and 100 percent. Cost effectiveness and incremental cost analysis was applied to the resultant 40,000 potential restoration plans, resulting in identification of eight “best buy” restoration plans for the study area. These plans represent the most efficient means to achieve ecosystem restoration in the study area. Based upon the incremental analysis and the ability of the alternative plans to achieve the restoration planning goals and objectives, one of the Best Buy plans was selected as the National Ecosystem Restoration (NER) plan.

12. The NER plan will restore 100 percent of the 379 acres of degraded wetlands in the potential restoration areas. The NER plan will restore the following habitats: low emergent marsh (151 acres: 40 percent), wetland forest/scrub-shrub (170 acres: 45 percent; plus an additional 19 acres, or 5 percent, as upland forest/scrub-shrub), mudflat (19 acres: 5 percent), and open water (19 acres: 5 percent). It is expected that implementation of the NER plan will cost approximately $50.6 million with an average annual cost of approximately $3.3 million.

13. The costs of project implementation for the hurricane and storm damage reduction features and ecosystem restoration features will be shared by the Federal government and the non-Federal project partner (NJDEP) on a 65 percent/35 percent basis. All operations and maintenance costs will be borne by the non-Federal project partner. For the hurricane and storm damage reduction features, the project implementation costs will be shared as follows: $40,608,700 Federal and $21,866,200 non-Federal with annual O&M costs of $221,500 (non-Federal). This includes mitigation costs associated with the implementation of these features ($2,865,300 total with $1,862,400 Federal and $1,002,900 non-Federal). For the ecosystem restoration features, the project implementation costs $50,552,800 million will be shared with $32,859,300 Federal and $17,693,500 non-Federal with O&M costs of $80,000 (non-Federal).

14. Potential beneficial cumulative impacts to migratory waterfowl and songbirds are likely to result from implementation of the selected mitigation and ecosystem restoration plans. These plans, in conjunction with similar projects in the South River watershed, should increase the overall ecological value of the area. Specifically, the mitigation and restoration plans will add large areas of more desirable wetland communities and increase the study area's biodiversity (i.e., improve the areas composition and abundance of plant and animal species).

15. The construction and maintenance of both the hurricane and storm damage reduction measures and the ecosystem restoration measures will not negatively impact any Federally or state listed endangered or threatened species, areas of designated critical habitat, or essential fish habitat. By providing increased cover and opportunities for foraging and nesting, the selected plans will also improve habitat for the Federally listed threatened bald eagle thought to utilize habitats in the general vicinity, and for many of the State of New Jersey endangered and threatened species observed in the restoration area (e.g., black skimmer, northern harrier, peregine falcon, yellow-crowned night heron, osprey, black-crowned night heron, and American bittern).

16. In sum, the recommended plan will efficiently reduce hurricane and storm damages along the South River and improve the structure and function of degraded ecosystems in the study area. The non-Federal project partner, NJDEP, has indicated its support for the recommended plan and is willing to enter into a Project Cooperation Agreement with the Federal Government for the implementation of the plan. At this time, there are no known major areas of controversy or unresolved issues regarding the study and selected plan among agencies or the public interest.

Len Houston,
Chief, Environmental Analysis Branch.

[FR Doc. 02-14226 Filed 6-6-02; 8:45 am]

BILLING CODE 3710-06-M